DEPARTMENT OF STATE

[Public Notice 8118]

Determination Concerning the Bolivian Military and Police

Pursuant to the authority vested in the Secretary of State, including that set forth in the “International Narcotics Control and Law Enforcement” account of the Department of State, Foreign Operations, and Related Programs Appropriations Act, 2012 (Div. I, Pub. L. 112-74), I hereby determine that funds made available for assistance for Bolivian military and police are in the national security interest of the United States.

This Determination shall be transmitted to the Congress and published in the Federal Register.

Dated: November 25, 2012.
Hillary Rodham Clinton,
Secretary of State.

[FR Doc. 2012-30243 Filed 12-13-12; 8:45 am]

BILLING CODE 4710-29-P